DEPARTMENT OF HOMELAND SECURITY

Federal Emergency Management Agency

[Docket ID FEMA-2013-0002; Internal Agency Docket No. FEMA-B-1288]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Shelby | City of Chelsea (12-04-5684P) | The Honorable Samuel Earl Niven, Sr., Mayor, City of Chelsea, P.O. Box 111, Chelsea, AL 35043 | City Clerk's Office, 11611 Chelsea Road, Chelsea, AL 35043 | http://www.bakeraecom.com/index.php/alabama/shelby-2/ | March 11, 2013 | 010432
Shelby | Unincorporated areas of Shelby County (12-04-5684P) | The Honorable Corley Ellis, Chairman, Shelby County Commission, P.O. Box 1177, Columbiana, AL 35051 | Shelby County, Engineer's Office, 506 Highway 70, Columbiana, AL 35051 | http://www.bakeraecom.com/index.php/alabama/shelby-2/ | March 11, 2013 | 010191
Arizona: Maricopa | Unincorporated areas of Maricopa County (12-09-2621P) | The Honorable Max W. Wilson, Chairman, Maricopa County Board of Supervisors, 301 West Jefferson Street, 10th Floor, Phoenix, AZ 85003 | Maricopa County Flood Control District, 2801 West Durango Street, Phoenix, AZ 85009 | http://www.r9map.org/Docs/12-09-2621P-040037-102IC.pdf | January 25, 2013 | 040037
California: San Luis Obispo | City of San Luis Obispo (12-09-1856P) | The Honorable Jan Howell Marx, Mayor, City of San Luis Obispo, 990 Palm Street, San Luis Obispo, CA 93401 | Engineering Department, 919 Palm Street, San Luis Obispo, CA 93401 | http://www.r9map.org/Docs/12-09-1856P-060310-102DA.pdf | March 25, 2013 | 060310
Colorado:
Adams | City of Westminster (12-08-0832P) | The Honorable Nancy McNally, Mayor, City of Westminster, 4800 West 92nd Avenue, Westminster, CO 80031 | Engineering Division, 4800 West 92nd Avenue, Westminster, CO 80031 | http://www.bakeraecom.com/index.php/colorado/adams/ | March 15, 2013 | 080008
Arapahoe | City of Aurora (12-08-0590P) | The Honorable Steve Hogan, Mayor, City of Aurora, 15151 East Alameda Parkway, Aurora, CO 80012 | Engineering Department, 15151 East Alameda Parkway, Aurora, CO 80012 | http://www.bakeraecom.com/index.php/colorado/arapahoe/ | March 22, 2013 | 080002
Boulder | City of Boulder (12-08-0776P) | The Honorable Matthew Appelbaum, Mayor, City of Boulder, P.O. Box 791, Boulder, CO 80306 | Planning and Development Services Department, 1739 Broadway, 3rd Floor, Boulder, CO 80302 | http://www.bakeraecom.com/index.php/colorado/boulder/ | March 25, 2013 | 080024
Florida: Brevard | City of Cocoa Beach (12-04-6118P) | The Honorable Leon “Skip” Beeler III, MD, Mayor, City of Cocoa Beach, P.O. Box 322430, Cocoa Beach, FL 32932 | Development Services Department, 2 South Orlando Avenue, 2nd Floor, Cocoa Beach, FL 32932 | http://www.bakeraecom.com/index.php/florida/brevard/ | March 25, 2013 | 125097
North Carolina: Mecklenburg | Town of Huntersville (12-04-5382P) | The Honorable Jill Swain, Mayor, Town of Huntersville, P.O. Box 664, Huntersville, NC 28078 | Planning Department, 101 Huntersville-Concord Road, Huntersville, NC 28070 | http://www.bakeraecom.com/index.php/northcarolina/mecklenburg-pmr-2/ | March 11, 2013 | 370478.
South Carolina:
Charleston | City of Charleston (12-04-8055P) | The Honorable Joseph P. Riley, Jr. Mayor, City of Charleston, P.O. Box 652, Charleston, SC 29402 | Engineering Department ,75 Calhoun Street, Division 301, Charleston, SC 29401 | http://www.bakeraecom.com/index.php/southcarolina/charleston-2/ | March 15, 2013 | 455412
Charleston | Unincorporated areas of Charleston County (12-04-8055P) | The Honorable Teddie E. Pryor, Sr., Chairman, Charleston County Council, 4045 Bridge View Drive, North Charleston, SC 29405 | Charleston County Building Services Department, 4045 Bridge View Drive, North Charleston, SC 29405 | http://www.bakeraecom.com/index.php/southcarolina/charleston-2/ | March 15, 2013 | 455413

(Catalog of Federal Domestic Assistance No. 97.022, “Flood Insurance.”)

James A. Walke,
Acting Deputy Associate Administrator for Mitigation, Department of Homeland Security, Federal Emergency Management Agency.

[FR Doc. 2013-02445 Filed 2-4-13; 8:45 am]

BILLING CODE 9110-12-P